DEPARTMENT OF JUSTICE

Notice of Lodging of Consent Decree Under the Resource Conservation and Recovery Act

Notice is hereby given that on May 11, 2006, a proposed Consent Decree (“CD”) in United States, et al., v. FMB—First Michigan Bank, or its successor, as Trustee of the Mary A. Windolph Trust, Civil Action No. 1:88-cv-00097 was lodged with the United States District Court for the Western District of Michigan, Southern Division.

In this action, the United States sought on behalf of the United States Environmental Protection Agency the imposition of civil penalties and permanent injunctive relief at the KHI, Inc. facility in Holland, Michigan, formerly known as Kent-Holland Die Casting & Plating, Inc. (the “KHI Facility”) owned by the Mary A. Windolph Trust, pursuant to Section 3008 of the Resource Conservation and Recovery Act (“RCRA”), 42 U.S.C. 6928. The CD resolves claims that the Mary A. Windolph Trust, as current owner of the KHI Facility, failed to comply with RCRA permitting requirements for hazardous waste treatment, storage, and disposal facilities. The CD builds upon a March 17, 1988 Stipulation in which the Defendant, FMB—First Michigan Bank, or its successor, as Trustee for the Mary A. Windolph Trust, agreed to perform the closure and post-closure activities at the KHI Facility. The Defendant has completed closure requirements. Under the CD, the Defendant must continue to comply with on-going post-closure plans, pay a civil penalty of $10,000, and place a minimum of $113,000 and a maximum of $350,000 in an environmental escrow to fund its remaining obligations. Additionally, the Defendant agrees to continue to provide EPA with access to the KHI Facility during the post-closure work. Further, upon payment of the civil penalty, the United States convenants not to sue the Defendant pursuant to 40 CFR Part 265 Subpart G and Sections 3008 and 7003 of RCRA, 42 U.S.C. 6928 and 6973, and Part 111 of the Michigan's Natural Resources and Environmental Protection Act (“NREPA”) for closure and corrective action related obligations at the KHI Facility, and Sections 106 and 107(a) of CERCLA, 42 U.S.C. 9606 and 9607(a), and Part 201 of NREPA with respect to Existing Contamination at the KHI Facility. Additionally, this CD includes a prospective purchaser agreement, attached to the CD as Appendix C, entitled “Agreement and Covenant Not to Sue.” The United States convenants not to sue the prospective purchaser of the KHI facility, ADW, L.L.C., pursuant to Sections 3008 and 7003 of RCRA, 42 U.S.C. 6928 and 6973, Sections 106 and 107(a) of CERCLA, 42 U.S.C. 9606 and 9607(a), and Parts 111 and 201 of NREPA with respect to Existing Contamination at the KHI Facility.

The Department of Justice will receive for a period of thirty (30) days from the date of this publication comments relating to the CD. Comments should be addressed to the Assistant Attorney General, Environment and Natural Resources Division, P.O. Box 7611, U.S. Department of Justice, Washington, DC 20044-7611, and should refer to United States, et al., v. FMB—First Michigan Bank, or its successor, as Trustee of the Mary A. Windolph Trust, D.J. Ref. 90-7-1-433. Commenters may request an opportunity for a public meeting in the affected area, in accordance with Section 7003(d) of RCRA, 42 U.S.C. 6973(d).

The CD may be examined at the Office of the United States Attorney, Western District of Michigan, Southern Division, 330 Ionia Ave., NW., Suite 501, Grand Rapids, Michigan 49501-0208. During this public comment period, the CD may also be examined on the following Department of Justice Web site, http://www.usdoj.gov/enrd/open.html. A copy of the CD may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $26.75 (25 cents per page reproduction cost) payable to the U.S. Treasury or, if by e-mail or fax, forward a check in that amount to the Consent Decree Library at the stated address.

William Brighton,
Assistant Chief, Environmental Enforcement Section, Environment and Natural Resources Division, United States Department of Justice.

[FR Doc. 06-4834 Filed 5-24-06; 8:45 am]

BILLING CODE 4410-15-M